DEPARTMENT OF JUSTICE

National Institute of Corrections

Advisory Board Meeting

Time and Date: 8 a.m. to 4:30 p.m. on Monday, October 17, 2005; 8 a.m. to 12 p.m. on Tuesday, October 18, 2005.

Place: The Radisson Hotel, Old Town Alexandria, 901 North Fairfax Street, Alexandria, Virginia 223147.

Status: Open.

Matters To Be Considered: Mental Health Hearing and Activities; Report Mentoring Children of Prisoners; DOJ Faith Based Office; Prison Rape Elimination Act (PREA) Panel American University Project; Quarterly Report by Office of Justice Programs.

For Further Information Contact: Larry Solomon, Deputy Director, 202-307-3106, ext. 44254.

Morris L. Thigpen,
Director.

[FR Doc. 05-19448 Filed 9-28-05; 8:45 am]

BILLING CODE 4410-36-M